DEPARTMENT OF ENERGY

Federal Energy Regulatory Commission

Combined Notice of Filings #1

Take notice that the Commission received the following electric corporate filings:

Docket Numbers: EC23-27-000.

Applicants: McHenry Battery Storage, LLC.

Description: Application for Authorization Under Section 203 of the Federal Power Act of McHenry Battery Storage, LLC.

Filed Date: 11/15/22.

Accession Number: 20221115-5223.

Comment Date: 5 pm ET 12/6/22.

Take notice that the Commission received the following electric rate filings:

Docket Numbers: ER20-1961-003.

Applicants: Southwest Power Pool, Inc.

Description: Compliance filing: NorthWestern Corporation submits tariff filing per 35: NorthWestern—Order No. 864. Amended Compliance Filing to be effective 1/27/2020.

Filed Date: 11/16/22.

Accession Number: 20221116-5031.

Comment Date: 5 pm ET 12/7/22.

Docket Numbers: ER22-356-000.

Applicants: ATX Southwest, LLC.

Description: Amendment to Order No. 864 Compliance Filing of ATX Southwest.

Filed Date: 10/13/22.

Accession Number: 20221013-5169.

Comment Date: 5 pm ET 11/30/22.

Docket Numbers: ER22-1846-002.

Applicants: Southwest Power Pool, Inc.

Description: Compliance filing: Compliance Filing—Waiver of Base Plan Allocation Methodology to be effective 8/1/2022.

Filed Date: 11/16/22.

Accession Number: 20221116-5060.

Comment Date: 5 pm ET 12/7/22.

Docket Numbers: ER23-436-000.

Applicants: Public Service Company of Colorado.

Description: § 205(d) Rate Filing: 2022-11-xx-FRMS-Surplus LGIA Amnd 584-0.1.0 to be effective 11/16/2022.

Filed Date: 11/15/22.

Accession Number: 20221115-5173.

Comment Date: 5 pm ET 12/6/22.

Docket Numbers: ER23-437-000.

Applicants: Calpine Energy Services, L.P.

Description: Calpine Energy Services, L.P submits WECC Soft Price Cap Justification Filing.

Filed Date: 11/15/22.

Accession Number: 20221115-5226.

Comment Date: 5 pm ET 12/6/22.

Docket Numbers: ER23-438-000.

Applicants: Southwest Power Pool, Inc.

Description: § 205(d) Rate Filing: 1166R39 Oklahoma Municipal Power Authority NITSA and NOA) to be effective 11/1/2022.

Filed Date: 11/16/22.

Accession Number: 20221116-5042.

Comment Date: 5 pm ET 12/7/22.

Docket Numbers: ER23-439-000.

Applicants: Avista Corporation.

Description: § 205(d) Rate Filing: Avista Corp—LTF PTP Agreement RS T-1200—Enel Green Power to be effective 1/1/2023.

Filed Date: 11/16/22.

Accession Number: 20221116-5043.

Comment Date: 5 pm ET 12/7/22.

Docket Numbers: ER23-440-000.

Applicants: Southwest Power Pool, Inc.

Description: § 205(d) Rate Filing: 1518R24 Arkansas Electric Cooperative Corp NITSA NOA to be effective 11/1/2022.

Filed Date: 11/16/22.

Accession Number: 20221116-5058.

Comment Date: 5 pm ET 12/7/22.

Docket Numbers: ER23-441-000.

Applicants: Avista Corporation.

Description: § 205(d) Rate Filing: Avista Corp LTF PTP AVA LSE Agreement T-1202 to be effective 12/1/2022.

Filed Date: 11/16/22.

Accession Number: 20221116-5059.

Comment Date: 5 pm ET 12/7/22.

Docket Numbers: ER23-442-000.

Applicants: PJM Interconnection, L.L.C.

Description: § 205(d) Rate Filing: Original ISA, Service Agreement No. 6680; Queue No. AD2-071 to be effective 12/31/9998.

Filed Date: 11/16/22.

Accession Number: 20221116-5083.

Comment Date: 5 pm ET 12/7/22.

Docket Numbers: ER23-443-000.

Applicants: Avista Corporation.

Description: § 205(d) Rate Filing: Avista Corp OATT revisions to correct errors related to Western EIM Settlements to be effective 12/1/2022.

Filed Date: 11/16/22.

Accession Number: 20221116-5085.

Comment Date: 5 pm ET 12/7/22.

Docket Numbers: ER23-444-000.

Applicants: Southwest Power Pool, Inc.

Description: § 205(d) Rate Filing: 3551 Rainbow Energy Marketing/Sunflower Meter AgentAg Cancel to be effective 6/1/2022.

Filed Date: 11/16/22.

Accession Number: 20221116-5088.

Comment Date: 5 pm ET 12/7/22.

Docket Numbers: ER23-445-000.

Applicants: American Electric Power Service Corporation, Indiana Michigan Power Company, PJM Interconnection, L.L.C.

Description: § 205(d) Rate Filing: American Electric Power Service Corporation submits tariff filing per 35.13(a)(2)(iii: AEP submits ILDSA, SA No. 1253 and Attachments 1 to 4 to be effective 1/16/2023.

Filed Date: 11/16/22.

Accession Number: 20221116-5092.

Comment Date: 5 pm ET 12/7/22.

Docket Numbers: ER23-446-000.

Applicants: Duke Energy Indiana, LLC.

Description: § 205(d) Rate Filing: DEI-Ameren RS No. 280 Construction Agmt to be effective 11/17/2022.

Filed Date: 11/16/22.

Accession Number: 20221116-5125.

Comment Date: 5 pm ET 12/7/22.

Docket Numbers: ER23-447-000.

Applicants: AEP Texas Inc.

Description: § 205(d) Rate Filing: AEPTX-Frontera Generation Limited Partnership GIA to be effective 11/1/2022.

Filed Date: 11/16/22.

Accession Number: 20221116-5131.

Comment Date: 5 pm ET 12/7/22.

Docket Numbers: ER23-448-000.

Applicants: Liberty Utilities (Granite State Electric) Corp.

Description: § 205(d) Rate Filing: Borderline Sales Rate Sheet Update November 2022 with Request for Notice Waiver to be effective 11/1/2022.

Filed Date: 11/16/22.

Accession Number: 20221116-5135.

Comment Date: 5 pm ET 12/7/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2022.
Debbie-Anne A. Reese,
Deputy Secretary.

[FR Doc. 2022-25459 Filed 11-22-22; 8:45 am]

BILLING CODE 6717-01-P